DEPARTMENT OF THE INTERIOR

Fish and Wildlife Service

Receipt of Applications for Endangered Species Permits

AGENCY: Fish and Wildlife Service, Interior.

ACTION: Notice.

SUMMARY: Pursuant to section 10(c) of the Endangered Species Act of 1973, as amended (16 U.S.C. 1531 et seq.), the following requests are made:

Applicant: Florida Department of Environmental Protection, Alice Bard, Apopka, Florida, TE105518-0.

The applicant requests authorization to take (capture, mark/recapture, take genetic samples, release) the Anastasia Island beach mouse (Peromyscus polionotus phasma). The proposed activities would take place while conducting presence/absence surveys and research investigations necessary to track the status and/or recovery of the species. The proposed activities would occur in the Anastasia State Park and at the Fort Matanzas National Monument, Saint Johns County, Florida.

Applicant: Michael L. Kennedy, Arlington, Tennessee, TE105519-0.

The applicant requests authorization to take (capture, identify, release) the gray bat (Myotis grisescens) and the Indiana bat (Myotis sodalis) while conducting presence/absence studies. The proposed activities would occur throughout the State of Tennessee and are limited in Alabama to the Little Rivers Canyon National Preserve in DeKalb and Cherokee Counties and Russell Cave National Monument in Jackson County.

Applicant: Robert Environmental Consulting Services, Rex R. Roberg, Cabot, Arkansas, TE105626-0.

The applicant requests authorization to harass (capture, translocate, release) the American burying beetle (Nicrophorus americanus) while managing and protecting populations, conducting research studies, characterizing habitat at all known localities, and translocating the species. The proposed activities would occur in McCurtain County, Oklahoma.

Applicant: Michael L. Kennedy, Arlington, Tennessee, TE105519-0.

The applicant requests authorization to take (capture and release) the Indiana bat (Myotis sodalis) and the gray bat (Myotis grisescens) while conducting presence/absence studies and determining the use of a project area by target species. The proposed activities would occur throughout the species' ranges in Tennessee; Little Rivers Canyon National Preserve, Dekalb and Cherokee Counties, Alabama; and Russell Cave National Monument, Jackson County, Alabama.

Applicant: White Oak Conservation Center, John A. Lukas, Yulee, Florida, TE105674-0.

The applicant requests authorization to take (captive propagate, transport, release) the Mississippi Sandhill Crane (Grus canadensis pulla) while conducting breeding and reintroduction activities for the Mississippi Sandhill Crane National Wildlife Refuge. The proposed activities would occur at the Audubon Nature Institute, New Orleans, Louisiana; Mississippi Sandhill Crane National Wildlife Refuge, Gautier, Mississippi; and White Oak Conservation Center, Yulee, Florida.

Applicant: University of Florida, Steve A. Johnson, Plant City, Florida, TE106196-0.

The applicant requests authorization to take (salvage) the following species: flatwoods salamander (Ambystoma cingulatum), American alligator (Alligator mississippiensis), American crocodile (Crocodylus acutus), eastern indigo snake (Drymarchon corais couperi), Atlantic salt marsh water snake (Nerodia clarkia taeniata), bluetail mole skink (Eumeces egregius lividus), sand skink (Neoseps reynoldsi), loggerhead sea turtle (Caretta caretta), green sea turtle (Chelonia mydas), leatherback sea turtle (Dermochelys coriacea), hawksbill sea turtle (Eretmochelys imbricata), Kemp's Ridley sea turtle (Lepiodochelys kempii), roseate tern (Sterna dougallii dougallii), wood stork (Mycteria americana), Audubon's crested caracara (Polyborus plancus audubonii), bald eagle (Haliaeetus leucocephalus), Everglade snail kite (Rostrhamus sociabilis plumbeus), Florida scrub jay (Aphelocoma coerulescens), Cape Sable seaside sparrow (Ammodramus maritimus mirabilis), Florida grasshopper sparrow (Ammodramus savannarum floridanus), red-cockaded woodpecker (Picoides borealis), Florida panther (Puma concolor coryi), key deer (Odocoileus virginianum clavium), Lower Keys marsh rabbit (Sylvilagus palustris hefneri), rice rat (Oryzomys palustris natator), Key Largo woodrat (Neotoma floridana smalli), Key Largo cotton mouse (Peromyscus gossypinus allapaticola), Choctawhatchee beach mouse (Peromyscus polionotus allophrys), southeastern beach mouse (Peromyscus polionotus niveiventris), Anastasia Island beach mouse (Peromyscus polionotus phasma), St. Andrew beach mouse (Peromyscus polionotus peninsularis), Perdido Key beach mouse (Peromyscus polionotus trissyllepsis), and Florida saltmarsh vole (Microtus pennsylvanicus dukecampbelli) while salvaging whole or parts of specimens for teaching purposes. The teaching collection of the salvaged specimens would be maintained at the University of Florida extension campus, Plant City, Florida.

Applicant: Dr. Joan L. Morrison, Trinity College, Hartford, Connecticut, TE106708-0.

The applicant requests authorization to take (capture, identify, radio tag, collect blood samples, release) the Audubon's crested caracara (Polyborus plancus audubonii). The proposed activities would take place while studying the abundance, distribution of nest sites, and habitat use throughout the Audubon's crested caracara range in Florida.

DATES: We must receive written data or comments on these applications at the address given below, by August 19, 2005.

ADDRESSES: Documents and other information submitted with these applications are available for review, subject to the requirements of the Privacy Act and Freedom of Information Act, by any party who submits a written request for a copy of such documents to the following office within 30 days of the date of publication of this notice:

U.S. Fish and Wildlife Service, 1875 Century Boulevard, Suite 200, Atlanta, Georgia 30345 (Attn: Victoria Davis, Permit Biologist).

FOR FURTHER INFORMATION CONTACT: Victoria Davis, telephone: (404) 679-4176; facsimile (404) 679-7081.

SUPPLEMENTARY INFORMATION: The public is invited to comment on the following applications for permits to conduct certain activities with endangered and threatened species. If you wish to comment, you may submit comments by any one of the following methods. You may mail comments to the Service's Regional Office (see ADDRESSES section) or via electronic mail (e-mail) to victoria_davis@fws.gov. Please submit electronic comments as an ASCII file avoiding the use of special characters and any form of encryption. Please also include your name and return address in your e-mail message. If you do not receive a confirmation from the Service that we have received your e-mail message, contact us directly at the telephone number listed above (see FOR FURTHER INFORMATION CONTACT section). Finally, you may hand deliver comments to the Service office listed above (see ADDRESSES section).

Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

Dated: July 1, 2005.
Cynthia K. Dohner,
Acting Regional Director.

[FR Doc. 05-14215 Filed 7-19-05; 8:45 am]

BILLING CODE 4310-55-P